DEPARTMENT OF ENERGY

Federal Energy Regulatory Commission

[Docket No. RP99-301-110]

ANR Pipeline Company; Notice of Negotiated Rate Filing

April 7, 2004.

Take notice that, on April 1, 2004, ANR Pipeline Company (ANR) tendered for filing and approval four amendments to existing negotiated rate service agreements between ANR and Wisconsin Electric Power Company.

ANR requests that the Commission accept and approve the subject negotiated rate agreement amendments to be effective April 1, 2004.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-829 Filed 4-13-04; 8:45 am]

BILLING CODE 6717-01-P